DEPARTMENT OF ENERGY

Federal Energy Regulatory Commission

[Docket No. EG02-125-000, et al.]

PSEG Fossil LLC, et al.; Electric Rate and Corporate Regulation Filings

April 26, 2002.

The following filings have been made with the Commission. The filings are listed in ascending order within each docket classification.

1. PSEG Fossil LLC

[Docket No. EG02-125-000]

Take notice that on April 24, 2002, PSEG Fossil LLC (PSEG Fossil or Applicant), having its principal place of business at 80 Park Plaza, T-16, Newark, New Jersey, filed with the Federal Energy Regulatory Commission (Commission), an application for redetermination of exempt wholesale generator status pursuant to Part 365 of the Commission's regulations.

PSEG Fossil is a limited liability company organized under the laws of the State of Delaware. PSEG Fossil states that it will be engaged, directly or indirectly through an affiliate as defined in section 2(a)(11)(B) of the Public Utility Holding Company Act of 1935, exclusively in owning, or both owning and operating eligible generating facilities, and engaging in sales of electric energy at wholesale.

Comment Date: May 17, 2002.

2. New England Power Pool

[Docket No. ER02-1618-000]

Take notice that on April 23, 2002, the New England Power Pool (NEPOOL) Participants Committee submitted the Eighty-Fourth Agreement Amending New England Power Pool Agreement (Eighty-Fourth Agreement), which proposes changes to the NEPOOL Tariff and the Restated NEPOOL Agreement to integrate the merchant transmission facility Cross Sound Cable project into the NEPOOL Tariff and to provide for operational control of the facility by the New England independent system operator. Expedited consideration, a waiver of the sixty-day notice requirement and a June 1, 2002 effective date has been requested.

The NEPOOL Participants Committee states that copies of these materials were sent to the NEPOOL Participants, Non-Participant Transmission Customers and the New England state governors and regulatory commissions.

Comment Date: May 14, 2002.

3. Ameren Services Company

[Docket No. ER02-1619-000]

Take notice that on April 23, 2002, Ameren Services Company (ASC) tendered for filing a Parallel Operating Agreement between ASC and Clay County Trust 2000. ASC asserts that the purpose of the Agreement is to permit ASC to provide transmission service to Clay County Trust 2000 pursuant to Ameren's Open Access Transmission Tariff.

Comment Date: May 14, 2002.

4. Exelon Generation Company, LLC

[Docket No.ER02-1620-000]

Take notice that on April 23, 2002, Exelon Generation Company, Inc. (EXELON) filed under section 205 of the Federal Power Act, 16 USC 792 et seq., a Transaction Agreement dated March 22, 2002 with Kennebunk Light and Power District (KLPD) under EXELON's FERC Electric Tariff Original Volume No. 1 (Tariff).

EXELON requests an effective date of May 1, 2002 for the Agreement.

Comment Date: May 14, 2002.

5. Southern California Edison Company

[Docket No. ER02-1621-000]

Take notice, that on April 23, 2002, Southern California Edison Company (SCE) tendered for filing revisions to the Interconnection Facilities Agreement (Interconnection Agreement) between SCE and the City of Colton (Colton). The revisions reflect SCE's and Coltons's (Parties) negotiations to revise the original Interconnection Agreement in order to incorporate into it the Interconnection Facilities and a cost estimate to accommodate Colton's request to replace the existing metering facilities at SCE's Colton Substation with new metering.

SCE requests the Commission to assign an effective date of April 11, 2002 to the Amended Interconnection Agreement. Copies of this filing were served upon the Public Utilities Commission of the State of California and Colton.

Comment Date: May 14, 2002.

6. Entergy Services, Inc.

[Docket No. ER02-1624-000]

Take notice that on April 23, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and RWE Trading Americas Inc.

Comment Date: May 14, 2002.

7. PPL Electric Utilities Corporation

[Docket No. ER02-1625-000]

Take notice that on April 23, 2002, PPL Electric Utilities Corporation (PPL Electric) filed an Interchange Scheduling Procedures and Data Access Agreement between PPL Electric and Citizens' Electric Company of Lewisburg (Citizens' Electric).

PPL Electric states that a copy of this filing has been provided to Citizens' Electric.

Comment Date: May 14, 2002.

8. Arizona Public Service Company

[Docket No. ER02-1627-000]

Take notice that on April 23, 2002, the Arizona Public Service Company tendered for filing proposed revisions to Arizona Public Service Company's fuel adjustment clause contained in certain wholesale power agreements on file with the Federal Energy Regulatory Commission (Commission).

A copy of this filing has been served on all parties on the service list.

Comment Date: May 14, 2002.

9. Ameren Energy, Inc. on Behalf of Union Electric Company d/b/a AmerenUE and Ameren Energy Generating Company

[Docket No. ER02-1628-000]

Take notice that on April 23, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into with American Electric Power Service Corporation.

Ameren Energy seeks Commission acceptance of these service agreements effective April 15, 2002. Copies of this filing were served on the public utilities commissions of Illinois and Missouri and the counterparty.

Comment Date: May 14, 2002.

10. Ameren Energy, Inc. on Behalf of Union Electric Company d/b/a AmerenUE and Ameren Energy Generating Company

[Docket No. ER02-1629-000]

Take notice that on April 23, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into with American Electric Power Service Corporation.

Ameren Energy seeks Commission acceptance of these service agreements effective April 10, 2002. Copies of this filing were served on the public utilities commissions of Illinois and Missouri and the counterparty.

Comment Date: May 14, 2002.

11. PacifiCorp

[Docket No.ER02-1630-000]

Take notice that on April 24, 2002, PacifiCorp tendered for filing in accordance with 18 CFR part 35 of the Federal Energy Regulatory Commission's (Commission) Rules and Regulations, Umbrella Service Agreement No. 73 with the City of Hermiston under PacifiCorp's FERC Electric Tariff, Third Revised Volume No. 12.

Copies of this filing were supplied to the Public Utility Commission of Oregon.

Comment Date: May 15, 2002.

12. Aquila, Inc.

[Docket No. ER02-1631-000]

Take notice that on April 24, 2002, Aquila, Inc. (Aquila), filed with the Federal Energy Regulatory Commission (Commission), pursuant to section 205 of the Federal Power Act, 16 USC 824d, and Part 35 of the Commission's regulations, Service Agreement No. 21 to Aquila's Market Based Power Sales Tariff (Aquila's FERC Electric Tariff No. 28). The service agreement is a Power Purchase Agreement between Aquila and Midwest Energy Inc., Missouri.

Comment Date: May 15, 2002.

13. Energy America LLC

[Docket No. ER02-1632-000]

Take notice that on April 24, 2002, Energy America tendered for filing an application for authorization to sell energy, capacity and ancillary services at market-based rates pursuant to section 205 of the Federal Power Act. Energy America is a direct subsidiary of Centrica US Holdings Ltd., and an indirect subsidiary of Centrica plc.

Comment Date: May 15, 2002.

14. Auburndale Peaker Energy Center, L.L.C.

[Docket No. ER02-1633-000]

Take notice that on April 24, 2002, Auburndale Peaker Energy Center, L.L.C. (Applicant) tendered for filing, under section 205 of the Federal Power Act a request for authorization to make wholesale sales of electric energy, capacity, replacement reserves, and ancillary services at market-based rates, to reassign transmission capacity, and to resell firm transmission rights. Applicant proposes to own and operate a 115 megawatt electric generating facility located in Florida.

Comment Date: May 15, 2002.

15. Entergy Services, Inc.

[Docket No. ER02-1634-000]

Take notice that on April 24, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Cleco Power LLC.

Comment Date: May 15, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-11095 Filed 5-3-02; 8:45 am]

BILLING CODE 6717-01-P